DEPARTMENT OF HOMELAND SECURITY

Coast Guard

33 CFR Part 147

[Docket No. USCG-2014-0242]

RIN 1625-AA00

Safety Zone; Gulfstar 1 SPAR, Mississippi Canyon Block 724, Outer Continental Shelf on the Gulf of Mexico

Correction

Proposed Rule document 2014-11567, appearing on pages 29095 through 29098 in the issue of Wednesday, May 21, 2014, should have appeared in the Proposed Rules section of the Federal Register.

[FR Doc. C1-2014-11567 Filed 5-28-14; 8:45 am]

BILLING CODE 1505-01-D